DEPARTMENT OF TRANSPORTATION

Federal Aviation Administration

Centennial Airport, Englewood, CO; FAA Approval of Noise Compatibility Program

AGENCY: Federal Aviation Administration (FAA), DOT.

ACTION: Notice, Noise compatibility program.

SUMMARY: The FAA's Federal Register Notice entitled “Approval of Noise Compatibility Program; Centennial Airport, Englewood, CO;” published August 21, 2008, published with several inaccuracies. Because of those inaccuracies we withdraw the August 21, 2008 notice (73 FR 49635) and are issuing this notice to replace the August 21, 2008 notice. The Federal Aviation Administration (FAA) announces its findings on the noise compatibility program submitted by the Arapahoe County Public Airport Authority for the Centennial Airport under the provisions of Title I of the Aviation Safety and Noise Abatement Act of 1979 (Pub. L. 96-193) and 14 CFR Part 150, Airport Noise Compatibility Planning. These findings are made in recognition of the description of federal and non-federal responsibilities in Senate Report No. 96-52 (1980). On August 12, 2008, FAA Airports Division Manager approved the Centennial Airport noise compatibility program. Of the twelve proposed program elements, FAA approved eight and reserved approval of another two measures pending further study. The remaining two measures were disapproved.

DATES: Effective Date: The effective date of the FAA's approval of the Centennial Airport noise compatibility program is August 12, 2008.

FOR FURTHER INFORMATION CONTACT: Linda Bruce, Federal Aviation Administration, Denver Airports District Office, 26805 E. 68th Avenue, Suite 224, Denver, Colorado 80249-6361, Telephone (303) 342-1264. Documents reflecting this FAA action may be obtained from Ms. Bruce or on the Internet at http://www.faa.gov/airports-airtraffic/airports/regional-guidance/northwest-mountain/environmental/.

SUPPLEMENTARY INFORMATION: This notice announces that the FAA has given its overall approval to the Centennial Airport noise compatibility program, effective August 12, 2008.

Under Section 104(a) of the Aviation Safety and Noise Abatement Act of 1979 (hereinafter the Act), an airport operator who has previously submitted a noise exposure map may submit to the FAA a noise compatibility program which sets forth the measures taken or proposed by the airport operator for the reduction of existing noncompatible land uses and prevention of additional noncompatible land uses within the area covered by the noise exposure maps.

The Act requires such programs to be developed in consultation with interested and affected parties including local communities, government agencies, airport users, and FAA personnel.

Each airport noise compatibility program developed in accordance with 14 CFR Part 150 is a local program, not a federal program. The FAA does not substitute its judgment for that of the airport sponsor with respect to which measures should be recommended for action. The FAA's approval or disapproval of Part 150 program recommendations is measured according to the standards expressed in Part 150 and the Act, and is limited to the following determinations:

(a) The noise compatibility program was developed in accordance with the provisions and procedures of 14 CFR Part 150;

(b) Program measures are reasonably consistent with achieving the goals of reducing existing noncompatible land uses around the airport and preventing the introduction of additional noncompatible land uses;

(c) Program measures would not create an undue burden on interstate or foreign commerce, unjustly discriminate against types or classes of aeronautical uses, violate the terms of airport grant agreements, or intrude into areas preempted by the federal government; and

(d) Program measures relating to the use of flight procedures can be implemented within the period covered by the program without derogating safety, adversely affecting the efficient use and management of the navigable airspace and air traffic control systems, or adversely affecting other powers and responsibilities of the FAA Administrator, as prescribed by law.

Specific limitations with respect to FAA's approval of an airport noise compatibility program are delineated in Part 150.5. Approval is not a determination concerning the acceptability of land uses under Federal, state, or local law. Approval does not by itself constitute a FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982. Where Federal funding is sought, the airport sponsor must submit requests for project grants to the FAA Denver Airports District Office in Denver, Colorado.

The Centennial Airport study contains a proposed noise compatibility program comprised of actions designed for implementation by airport management and adjacent jurisdictions from the date of study completion to beyond the year 2012. The Arapahoe County Public Airport Authority, Englewood, CO, requested that the FAA evaluate and approve this material as a noise compatibility program for the Centennial Airport, as described in Section 104(b) of the Act. The FAA began its review of the program on February 22, 2008, and was required by a provision of the Act to approve or disapprove the program within 180 days (other than the use of new flight procedures for noise control). Failure to approve or disapprove such a program within the 180-day period shall be deemed to be an approval of such a program.

The submitted program contained 12 proposed actions to address noise on and off the airport. The FAA completed its review and determined that the overall program complied with procedural and substantive requirements of the Act and Part 150. The overall program, therefore, was approved by FAA effective August 12, 2008.

FAA granted outright approval for five of the specific program recommendations. One of these approved elements involves voluntary measures that the airport sponsor can encourage pilots to use to help minimize aircraft noise. The other four approved recommendations involve program management and are intended to assist in the development and operations of a noise abatement office and noise monitoring efforts. These measures include the installation of a permanent noise monitoring system to monitor noise levels and compliance with noise abatement measures and the use of a public advisory committee to monitor programs implemented as a result on the adoption of the NCP, including the Noise Monitoring Program.

FAA approved in part the NCP recommendation that addresses land use planning. This recommendation involves the airport authority working with the local municipalities to amend zoning requirements, comprehensive plans and development regulations to minimize new, noncompatible land uses near the airport and to minimize the impact on airspace surrounding the airport, including 14 CFR Part 77 imaginary surfaces. FAA disapproved for Part 150 purposes portions of this recommendation related to airspace issues regulated under Part 77.

In addition, the airport sponsor proposes four changes to flight procedures. One of these measures, a change to nighttime flight procedures for jets departing to the north, FAA approved, subject to further environmental review and air traffic operational safety and efficiency. FAA also approved, for Part 150 purposes, the elimination of the preferential runway procedure.

FAA disapproved the remaining two program elements that involve proposed changes to flight procedures. FAA Air Traffic Control determined these procedures would create numerous adverse impacts to safety and efficiency of air traffic control operations. These procedures would have tested 24-hour flight tracks between 350 and 010 degree headings and implemented a 170 degree departure heading to 4 DME or 8,000 MSL (± 20 degrees).

The airport sponsor also proposes banning certain type of aircraft operations. In particular, the airport sponsor proposes the ban of Stage I aircraft under 75,000 lbs. from operating at Centennial Airport but did not provide data supporting the noise benefit of such a ban, per Part 150 requirements. For this reason, the FAA disapproved this recommendation pending further study. The Arapahoe Public Airport Authority may submit this additional information to FAA for further evaluation.

FAA also disapproved the proposed ban of Stage 2 aircraft between the hours of 10 p.m. and 6 a.m., pending additional information needed from the airport sponsor, as required under 14 CFR Part 161. The Arapahoe Public Airport Authority studied the noise benefit of such a ban and describes this benefit in its NCP. While this meets the requirements of Part 150, Part 161 requires additional FAA review and approval to determine the impact of such a ban on air commerce and the national airspace system prior to implementing the ban.

FAA's determinations are set forth in detail in a Record of Approval endorsed by the FAA Airports Division Manager on August 12, 2008. The Record of Approval, as well as other evaluation materials and the documents comprising the submittal, are available for review at the FAA office and Internet site listed above and at the administrative offices of the Arapahoe County Public Airport Authority, Englewood, CO.

Re-issued in Renton, Washington, on August 25, 2008.
Donna P. Taylor,
Manager, Airports Division, FAA Northwest Mountain Region.

[FR Doc. E8-22460 Filed 9-24-08; 8:45 am]

BILLING CODE 4910-13-M